DEPARTMENT OF HEALTH AND HUMAN SERVICES

Substance Abuse and Mental Health Services Administration

Fiscal Year (FY) 2002 Funding Opportunities

AGENCY: Substance Abuse and Mental Health Services Administration, DHHS.

ACTION: Notice of funding availability.

SUMMARY: The Substance Abuse and Mental Health Services Administration (SAMHSA) Center for Mental Health Services (CMHS) announces the availability of FY 2002 funds for grants for the following activity. This notice is not a complete description of the activity; potential applicants must obtain a copy of the Guidance for Applicants (GFA), including Part I, Targeted Capacity Expansion (TCE) Grants for Jail Diversion Programs (SM 02-010), and Part II, General Policies and Procedures Applicable to all SAMHSA Applications for Discretionary Grants and Cooperative Agreements, before preparing and submitting an application.

Activity | Application deadline | Est. funds FY 2002 | Est. No. of awards | Project period (years)
Targeted Capacity Expansion (TCE) Grants for Jail Diversion Programs | June 19, 2002 and September 10, 2002 | $4,000,000 | 11 | 3-4

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network, P.O. Box 42490, Washington, DC 20015, 800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose

The Substance Abuse and Mental Health Administration's (SAMHSA) Center for Mental Health Services (CMHS) announces the availability of fiscal year 2002 funds for programs to divert individuals with mental illness from the criminal justice system to the mental health treatment and appropriate support services. These grants or cooperative agreements are made as part of SAMHSA/CMHS Targeted Capacity Expansion (TCE) Program.

This GFA on Jail Diversion, based on the Public Health Service Act Section 520G, is coordinated with the Department of Justice's solicitation “Mental Health Court Grants Program,” authorized in Public Law 106-515, Part V, Section 2201.

It is the intention of both agencies to collaborate on both the implementation and analysis of these two programs. The overall goal of this collaboration is to improve policy and practice for addressing the needs of persons with a mental illness or co-occurring disorder who become involved with the criminal justice system.

The SAMHSA, CMHS Jail Diversion Program will support two types of awards.

(1) Capacity Expansion Site Awards.

SAMHSA will fund up to 10 grants to support programs that divert programs with mental illness from the criminal justice system to community health and supportive services (submission date: June 19, 2002). Additional funds are expected to be available in the FY 2003 budget to fund a second group of Capacity Expansion Sites (submission date September 10, 2002).

(2) Technical Assistance and Policy Analysis (TAPA) Center Award.

SAMHSA will fund one grant to create the TAPA Center during FY 2002 (submission date: June 19, 2002). The Center's primary focus will be to address the technical assistance and policy development needs of mental health stakeholders and to assist in serving other potential stakeholders.

Eligibility

As specified by the Public Health Service Act 520G, eligibility to apply for Capacity Expansion Site Awards will be limited to the chief executive of a State, political subdivision of States, Indian Tribes, and tribal organizations, acting through agreements with other public and nonprofit entities to develop and implement programs to divert individuals with mental illness from the criminal justice system to community-based services. Thus, all applications must be signed by the chief executive of their State, political subdivision of State, Indian tribe, or tribal organization.

Eligibility to apply for the TAPA Center Award includes States, political subdivisions of States, Indian Tribes, and tribal organizations. In addition, the following entities are eligible:

• Public or private universities.

• Nonprofit agencies.

Interested parties who do not meet these criteria, including faith-based organizations, consumer organizations, and organizations representing people of color, are encouraged to partner with other agencies that are involved in preparation of the application.

Availability of Funds

Approximately $3 million will be available in FY 2002 for Capacity Expansion Site Awards. Awards of no more than $300,000 in total costs (direct and indirect) will be awarded per grant per year. In addition, applicants must provide a non-federal share of 25%. The applicant non-federal share may be made in cash or in kind fairly evaluated, included planned purchase or use of equipment or implementation or required services for clients in the diversion program.

$1 million in total costs (direct and indirect) will be awarded during FY 2002 for the Technical Assistance and Policy Analysis (TAPA) Center Award. As part of the collaboration between the Center for Mental Health Services (CMHS) and the Department of Justice (DOJ), the TAPA Center will invest 25% of its technical assistance resources to providing technical assistance to DOJ Mental Health Court grantees and constituents. Conversely, DOJ will mandate that 25% of their Technical Assistance Center(s) budget will be devoted to providing technical assistance to the Capacity Expansion Sites grantees, other mental health grantees, and constituents.

Period of Support

Each Capacity Expansion Site is eligible to receive funding for up to 3 years. Annual awards will be made subject to continued availability of funds and progress achieved by awardees. The Technical Assistance and Policy Analysis Center is eligible to receive funding for up to 4 years. Annual continuation awards will be made subject to continued availability of funds and progress achieved by the TAPA Center grantee.

Criteria for Review and Funding

General Review Criteria: Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criteria. Additional award criteria may be included in the application guidance materials.

Catalog of Federal Domestic Assistance Number: 93.243.

Program Contact

For questions concerning program issues, contact: Susan Salasin, Room 11C-22, 5600 Fishers Lane, Rockville, MD 20857, (301), 443-3653 E-mail: ssalasin@samhsa.gov.

For questions regarding grants management issues, contact: Steve Hudak, Division of Grants Management, Substance Abuse and Mental Health Services Administration, 5600 Fishers Lane 13-103, Rockville, MD 20857, (301) 443-9666, E-Mail: shudak@samhsa.gov.

Public Health System Reporting Requirements

The Public Health System Impact Statement (PHSIS) is intended to keep state and local health officials apprized of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular activity is subject to the Public Health System Reporting Requirements.

PHS Non-use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2002 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: April 24, 2002.
Richard Kopanda,
Executive Officer, SAMHSA.

[FR Doc. 02-10515 Filed 4-29-02; 8:45 am]

BILLING CODE 4162-20-P